ENVIRONMENTAL PROTECTION AGENCY

[EPA-R08-SFUND-2024-0009; FRL-11812-01-R8]

Proposed CERCLA Administrative Settlement Agreement and Order on Consent for Remedial Investigation Addendum/Focused Feasibility Study

AGENCY: Environmental Protection Agency (EPA).

ACTION: Notice of proposed settlement; request for public comment.

SUMMARY: In accordance with the requirements of the Comprehensive Environmental Response, Compensation, and Liability Act of 1980, as amended (“CERLCA”), notice is hereby given that a Proposed Administrative Settlement Agreement and Order on Consent for Remedial Investigation Addendum/Focused Feasibility Study (“Proposed Agreement”) associated with the Smeltertown Site near Salida, Chaffee County, Colorado (“Site”) was executed by the U.S. Environmental Protection Agency (“EPA”), Region 8 and is now subject to public comment, after which EPA may modify or withdraw its consent if comments received disclose facts or considerations that indicate that the Proposed Agreement is inappropriate, improper, or inadequate.

DATES: Comments must be submitted on or before April 29, 2024.

ADDRESSES: The Proposed Agreement and additional background information relating to the agreement will be available upon request. Any comments or requests or for a copy of the Proposed Agreement should be addressed to Julie Nicholson, Enforcement Specialist, Superfund and Emergency Management Division, Environmental Protection Agency-Region 8, Mail Code 8SEM-PAC, 1595 Wynkoop Street, Denver, Colorado 80202, telephone number: (401) 714-6143, email address: nicholson.julie@epa.gov and should reference the Smeltertown Site.

You may also send comments, identified by Docket ID No. EPA-R08-SFUND-2024-0009 to 40. Follow the online instructions for submitting comments.

FOR FURTHER INFORMATION CONTACT: Kayleen Castelli, Senior Assistant Regional Counsel, Office of Regional Counsel, Environmental Protection Agency, Region 8, Mail Code 8ORC-LEC, 1595 Wynkoop, Denver, Colorado 80202, telephone number:(303) 312-6174, email address: castelli.kayleen@epa.gov.

SUPPLEMENTARY INFORMATION: The Proposed Agreement would resolve potential EPA claims under section 107(a) of CERCLA, against Butala Construction Co. (“Settling Party”)for the performance of a remedial investigation addendum and focused feasibility study (RIA/FFS) for Operable Unit 2 (OU2) and a portion of the Vista Del Rio Subdivision (the “Property”), which is associated with the Smeltertown Site. The RIA/FFS will evaluate the possible impacts and potential remedies for the actual and/or threaten “release” of any hazardous substance resulting from Settling Party's activities and will analyze the remedy selected in the OU2 Record of Decision issued by the EPA in 1998 as it relates to those activities. This Settlement separately contemplates the soil and groundwater sampling programs for the Vista Del Rio subdivision by the Settling Party. The Vista Del Rio Subdivision is the subdivision of the 18-acres along the western edge of the Site. The Proposed Settlement also provides for the payment of certain response costs incurred by the United States at or in connection with the Site and the Vista Del Rio Subdivision and provides a covenant not to sue or to take administrative action from the United States to the Settling Party pursuant to sections 106 and 107(a) of CERCLA, 42 U.S.C. 9606 and 9607(a) with regard to the Property.

For thirty (30) days following the date of publication of this document, EPA will receive electronic comments relating to the Proposed Agreement. EPA's response to any comments received will be available for public inspection by request. Please see the ADDRESSES section of this document for instructions.

Ben Bienlenberg,
Acting Division Director, Superfund and Emergency Management Division, Region 8.

[FR Doc. 2024-06643 Filed 3-27-24; 8:45 am]

BILLING CODE 6560-50-P